NUCLEAR REGULATORY COMMISSION

[NRC-2021-0170]

Acceptable Standard Format and Content for the Fundamental Nuclear Material Control Plan Required for Special Nuclear Material of Moderate Strategic Significance

AGENCY: Nuclear Regulatory Commission.

ACTION: NUREG; issuance.

SUMMARY: The U.S. Nuclear Regulatory Commission (NRC) is issuing NUREG-2159, Revision 1, “Acceptable Standard Format and Content for the Fundamental Nuclear Material Control Plan Required for Special Nuclear Material of Moderate Strategic Significance.” This NUREG provides information to facilitate compliance with NRC regulations applicable to the fundamental nuclear material control plans required of certain types of licensees.

DATES: NUREG-2159, Revision 1 is available on July 8, 2022.

ADDRESSES: Please refer to Docket ID NRC-2021-0170 when contacting the NRC about the availability of information regarding this document. You may obtain publicly available information related to this document using any of the following methods:

• Federal Rulemaking website: Go to https://www.regulations.gov and search for Docket ID NRC-2021-0170. Address questions about Docket IDs in Regulations.gov to Stacy Schumann; telephone: 301-415-0624; email: Stacy.Schumann@nrc.gov. For technical questions, contact the individuals listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's Public Document Room (PDR), Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Suzanne Ani, telephone: 301-415-7336, email: Suzanne.Ani@nrc.gov and Glenn Tuttle, telephone: 301-415-7230, email: Glenn.Tuttle@nrc.gov. Both are staff of the Office of Nuclear Material Safety and Safeguards at the U.S. Nuclear Regulatory Commission, Washington, DC 20555-0001.

SUPPLEMENTARY INFORMATION:

I. Discussion

NUREG-2159, Revision 1, (ADAMS Accession No. ML22143A963) provides guidance to facilitate compliance with applicable provisions in Subpart D of Part 74 of title 10 of the Code of Federal Regulations (10 CFR), “Material Control and Accounting of Special Nuclear Material.” NUREG-2159, Revision 1, provides guidance for fuel cycle and other licensees and applicants who may request authorization to hold special nuclear material of moderate strategic significance. Generally, this guidance document discusses acceptable methods licensees and applicants may use to prepare and implement their fundamental nuclear material control plans, and how the NRC will review and inspect these plans.

II. Additional Information

Draft NUREG-2159, Revision 1, was published in Federal Register on September 23, 2021 (86 FR 52926) with a 60-day public comment period. The NRC received a request for an extension of the public comment period, granted that request, and extended the comment period by an additional 14 days, ending on December 3, 2021 (86 FR 61795, November 8, 2021). The NRC received four comment submissions from individual commenters during the comment period. All of these submissions were from members of the nuclear industry representing different organizations. In summary, the Nuclear Energy Institute (NEI) incorporated the comments from Centrus/American Centrifuge Operating (Centrus) and Global Nuclear Fuel—Americas (GNF-A), and X-Energy endorsed the NEI's consolidated comments. The four comment submissions can be found in ADAMS under Accession Nos. ML21337A083 (NEI), ML21300A135 (Centrus), ML21347A942 (GNF-A), and ML21344A034 (X-Energy). The NRC responses to these public comments can be found in ADAMS under Accession No. ML22080A123. This document explains the changes made to the draft version in response to the public comments.

III. Congressional Review Act

This NUREG is a rule as defined in the Congressional Review Act (5 U.S.C. 801-808). However, the Office of Management and Budget has not found it to be a major rule as defined in the Congressional Review Act.

Dated: July 1, 2022.
For the Nuclear Regulatory Commission.
James L. Rubenstone,
Chief, Material Control and Accounting Branch, Division of Fuel Management, Office of Nuclear Material Safety and Safeguards.

[FR Doc. 2022-14543 Filed 7-7-22; 8:45 am]

BILLING CODE 7590-01-P